DEPARTMENT OF HEALTH AND HUMAN SERVICES

National Institutes of Health

Prospective Grant of Exclusive License: “Compound, Composition and Method For Treating Cancer”, U.S. Patent 6,235,761

AGENCY: National Institutes of Health, Public Health Service, DHHS.

ACTION: Notice.

SUMMARY: This is notice, in accordance with 35 U.S.C. § 209(c)(1) and 37 CFR part 404.7(a)(1)(i), that the National Institutes of Health, Department of Health and Human Services, is contemplating the grant of an exclusive license to practice the inventions embodied in United States Patent number 6,235,761, entitled, “Compound, composition and method for treating cancer,” which was issued on May 22, 2001 and claims priority to U.S. Patent Application S/N 60/019,086, entitled, “Compound, composition and method for treating cancer,” which was filed on May 30, 1996, to Xanthus Life Sciences which is located in Cambridge, Massachusetts. The patent rights in these inventions have been assigned to the United States of America.

The prospective exclusive license territory will be worldwide and the field of use may be limited to human therapeutics for the treatment of cancer.

DATES: Only written comments and/or license applications that are received by the National Institutes of Health on or before August 9, 2002 will be considered.

ADDRESSES: Requests for copies of the patent, inquiries, comments and other materials relating to the contemplated exclusive license should be directed to: Richard U. Rodriguez, Technology Licensing Specialist, Office of Technology Transfer, National Institutes of Health, 6011 Executive Boulevard, Suite 325, Rockville, MD. 20852-3804. Telephone: (301) 496-7056, X287; Facsimile: (301) 402-0220; and E-mail: rodrigur@od.nih.gov.

SUPPLEMENTARY INFORMATION: The technology claimed in the issued patent relates to the 4-demethyl penclomedine molecule and all salts, both alone and in combination. The patent also claims use of the drug in treating cancer, especially solid tumors.

The prospective exclusive license will be royalty-bearing and will comply with the terms and conditions of 35 U.S.C. 209 and 37 CFR Part 404.7. The prospective exclusive license may be granted unless within sixty (60) days from the date of this published notice, the NIH receives written evidence and argument that establish that the grant of the license would not be consistent with the requirements of 35 U.S.C. 209 and 37 CFR part 404.7.

Applications for a license in the field of use filed in response to this notice will be treated as objections to the grant of the contemplated exclusive license. Comments and objections submitted to this notice will not be made available for public inspection and, to the extent permitted by law, will not be released under the Freedom of Information Act, 5 U.S.C. 552.

Dated: May 28, 2002.
Jack Spiegel,
Director, Division of Technology Development and Transfer, Office of Technology Transfer.

[FR Doc. 02-14439 Filed 6-7-02; 8:45 am]

BILLING CODE 4140-01-P